DEPARTMENT OF ENERGY

Federal Energy Regulatory Commission

[Docket No. ER00-2093-001, et al.]

Elkem Metals Company, et al.; Electric Rate and Corporate Filings

February 11, 2004.

The following filings have been made with the Commission. The filings are listed in ascending order within each docket classification.

1. Elkem Metals Company

[Docket No. ER00-2093-001]

Take notice that on February 9, 2004, Elkem Metals Company-Alloy L.P. (Elkem Alloy) tendered for filing (1) an updated market power analysis in compliance with the Federal Energy Regulatory Commission's Order authorizing Elkem Alloy to engage in wholesale sales of electric power at market-based rates in Docket No. ER00-2093-000, and (2) an amendment to its market-based rate tariff to adopt the Commission's new Market Behavior Rules issued November 17, 2003, in Docket Nos. EL01-118-000 and EL01-118-001.

Comment Date: March 1, 2004.

2. Mountain View Power Partners, LLC

[Docket No. ER01-751-005]

Take notice that on February 9, 2004, Mountain View Power Partners, LLC (MVPP) tendered for filing an updated market power analysis in compliance with the Federal Energy Regulatory Commission's Order authorizing MVPP to engage in wholesale sales of electric power at market based rates in Docket No. ER01-751-000.

Comment Date: March 1, 2004.

3. California Independent System Operator Corporation, Pacific Gas and Electric Company, San Diego Gas and Electric Company, Southern California Edison Company

[Docket Nos. ER04-445-001, ER04-435-001, ER04-441-001, and ER04-443-001]

Take notice that on February 9, 2004, California Independent System Operator Corporation (ISO), Pacific Gas and Electric Company (PG&E), San Diego Gas and Electric Company (SDG&E), and Southern California Edison Company (SCE) (collectively the Filing Parties) pursuant to section 205 of the Federal Power Act and section 35.13 of the Commission regulations, jointly submitted for filing a Standard Large Generator Interconnection Agreement in compliance with Order No. 2003.

Comment Date: March 1, 2004.

4. Public Service Company of New Mexico

[Docket No. ER04-534-000]

Take notice that on February 9, 2004, Public Service Company of New Mexico (PNM) submitted for filing two executed service agreements for firm point-to-point transmission service with Texas-New Mexico Power Company (TNMP), under the terms of PNM's Open Access Transmission Tariff. PNM requests January 1, 2004, as the effective date for each agreement.

PJM states that copies of the filing have been sent to TNMP, the New Mexico Public Regulation Commission and the New Mexico Attorney General. PNM's states that the filing is available for public inspection at its offices in Albuquerque, New Mexico.

Comment Date: March 1, 2004.

5. Midwest Independent Transmission System Operator, Inc.

[Docket No. ER04-535-000]

Take notice that on February 9, 2004, Midwest Independent Transmission System Operator, Inc. (Midwest ISO) pursuant to section 205 of the Federal Power Act and section 35.12 of the Commission's regulations, 18 CFR 35.12 (2002), submitted for filing a Facilities Construction Agreement among Cinergy Services, Inc., acting as agent for and on behalf of its operating company, PSI Energy, Inc., the Midwest ISO and Hoosier Energy Rural Electric Cooperative, Inc., acting as agent for and on behalf of Hoosier Energy Rural Electric Cooperative, Inc. and Wabash Valley Power Association, Inc.

Midwest ISO states that a copy of this filing was served on all parties.

Comment Date: March 1, 2004.

6. NUI Energy Brokers, Inc.

[Docket No. ER04-536-000]

Take notice that on February 9, 2004, NUI Energy Brokers, Inc. (NU Energy Brokers) tendered for filing in accordance with 18 CFR 35.15 of the Commission's rules and regulations, a Notice of Cancellation of its Electric Rate Schedule FERC No. 1. NU Energy Brokers request a February 10, 2004, effective date.

Comment Date: March 1, 2004.

7. Northeast Utilities Service Company

[Docket No. ER04-537-000]

Take notice that on February 9, 2004, Northeast Utilities Service Company (NUSCO) on behalf of the Connecticut Light and Power Company, Public Service Company of New Hampshire, and Select Energy, Inc. (Select), submitted pursuant to section 205 of the Federal Power Act and part 35 of the Commission's regulations rate schedule modifications for sales of electricity to the Littleton Electric Light Department of Littleton, Massachusetts (Littleton). NUSCO requests that the rate schedule modifications become effective on March 1, 2003.

NUSCO states that a copy of this filing has been mailed to Littleton and Select.

Comment Date: March 1, 2004.

8. Northeast Utilities Service Company

[Docket No. ER04-538-000]

Take notice that on February 9, 2004, Northeast Utilities Service Company (NUSCO) on behalf of The Connecticut Light and Power Company, Holyoke Water Power Company, and Select Energy, Inc. (Select) tender for filing pursuant to section 205 of the Federal Power Act and part 35 of the Commission's regulations rate schedule modifications for sales of electricity to the Groveland Municipal Light Department of Groveland, Massachusetts (Groveland). NUSCO requests that the rate schedule modifications become effective on March 1, 2003.

NUSCO states that a copy of this filing has been mailed to Groveland and Select.

Comment Date: March 1, 2004.

9. Wheelabrator Shasta Energy Company Inc.

[Docket No. ER04-540-000]

Take notice that on February 9, 2004, Wheelabrator Shasta Energy Company Inc. (Shasta Energy) tendered for filing Shasta Energy's revised Rate Schedule FERC No. 2. Shasta Energy states that the tariff has been revised to delete the code of conduct governing the relationship between Shasta Energy and Duke Energy Corporation because the proposed affiliation between those entities has not occurred.

Comment Date: March 1, 2004.

10. Northeast Utilities Service Company

[Docket No. ER04-541-000]

Take notice that on February 9, 2004, Northeast Utilities Service Company (NUSCO) on behalf of the Connecticut Light and Power Company, Public Service Company of New Hampshire, and Select Energy, Inc. (Select), submitted pursuant to section 205 of the Federal Power Act and part 35 of the Commission's regulations rate schedule modifications for sales of electricity to the Rowley Municipal Light Plant of Rowley, Massachusetts (Rowley). NUSCO requests that the rate schedule modifications become effective on March 1, 2003.

NUSCO states that a copy of this filing has been mailed to Rowley and Select.

Comment Date: March 1, 2004.

11. Northeast Utilities Service Company

[Docket No. ER04-542-000]

Take notice that on February 9, 2004, Northeast Utilities Service Company (NUSCO) on behalf of The Connecticut Light and Power Company, Holyoke Water Power Company, and Select Energy, Inc. (Select), submitted pursuant to section 205 of the Federal Power Act and part 35 of the Commission's regulations rate schedule modifications for sales of electricity to The Town of Merrimac Municipal Light Department of Merrimac, Massachusetts (Merrimac). NUSCO requests that the rate schedule modifications become effective on March 1, 2003.

NUSCO states that a copy of this filing has been mailed to Merrimac and Select.

Comment Date: March 1, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Magalie R. Salas,
Secretary.

[FR Doc. E4-312 Filed 2-18-04; 8:45 am]

BILLING CODE 6717-01-P